DEPARTMENT OF ENERGY

Federal Energy Regulatory Commission

[Docket No. RP01-175-002]

Total Peaking Services, L.L.C.; Notice of Compliance Filing

February 1, 2001.

Take notice that on January 30, 2001, Total Peaking Services, L.L.C. (Total Peaking), tendered for filing as part of its FERC Gas Tariff, Original Volume No. 1, First Revised Sheet No. 64, with an effective date of December 19, 2000.

Total Peaking states that the Revised Sheets remove language from Total Peaking's Tariff that currently subjects customers to imbalance penalties.

Total Peaking states that copies of the filing has been served on all parties on the office of Service List of Docket No. RP01-175-000 and the Connecticut Department of Utility Control.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-3145 Filed 2-6-01; 8:45 am]

BILLING CODE 6717-01-M